DEPARTMENT OF JUSTICE

Notice of Lodging of Consent Decree Under the Comprehensive Environmental Response, Compensation, and Liability Act

Notice is hereby given that on April 18, 2007, a proposed consent decree in United States v. Cyprus Amax Minerals Company, Civil Action No. 6:07-CV-1109, was lodged with the United States District Court for the District of Kansas.

In this action the United States sought recovery of costs incurred and to be incurred by the Environmental Protection Agency (EPA) relating to the releases of hazardous substances at the Crestline Subsite of the Cherokee County Superfund Site in Kansas. Additionally, the complaint asserts that the defendant is responsible for costs to be incurred at the Spring River Subsite of the Cherokee County Superfund Site. The decree provides that defendant will perform the remedy selected by EPA for the Crestline Subsite and reimburse EPA for all of the agency's unreimbursed costs at that subsite. In addition, the defendant will pay EPA a portion of anticipated future costs at the Spring River Subsite.

The Department of Justice will receive for a period of thirty (30) days from the date of this publication comments relating to the decree. Comments should be addressed to the Assistant Attorney General, Environment and Natural Resources Division, and either e-mailed to pubcomment-ees.enrd@usdoj.gov or mailed to P.O. Box 7611, U.S. Department of Justice, Washington, DC 20044-7611, and should refer to United States v Cyprus Amax Minerals Company, Civil Action No. 6:07-CV-1109, D.J. Ref. 90-11-2-08539.

The decree may be examined at the Office of the United States Attorney, 301 N. Main St., Suite 1200, Wichita, KS 67202. During the public comment period, the consent decree may also be examined on the following Department of Justice Web site: http://www.usdoj.gov/enrd/Consent&_Decrees.html. A copy of the decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $40.50 (25 cents per page reproduction cost) payable to the U.S. Treasury or, if by e-mail or fax, forward a check in that amount to the Consent Decree Library at the stated address.

Robert E. Maher, Jr.,
Assistant Section Chief, Environmental Enforcement Section, Environment and Natural Resources Division.

[FR Doc. 07-2164 Filed 5-2-07; 8:45 am]

BILLING CODE 4410-15-M